DEPARTMENT OF TRANSPORTATION

Federal Transit Administration

Over-the-Road Bus Accessibility Program Announcement of Project Selections

AGENCY: Federal Transit Administration, DOT.

ACTION: Notice.

SUMMARY: The U.S. Department of Transportation (DOT) Federal Transit Administration (FTA) announces the selection of projects to be funded under Fiscal Year 2004 appropriations for the Over-the-Road Bus (OTRB) Accessibility Program, authorized by Section 3038 of the Transportation Equity Act for the 21st Century (TEA-21). The OTRB Accessibility Program makes funds available to private operators of over-the-road buses to help finance the incremental capital and training costs of complying with DOT's over-the-road bus accessibility rule, published in the Federal Register on September 24, 1998.

FOR FURTHER INFORMATION CONTACT: The appropriate FTA Regional Administrator for grant-specific issues; or Blenda Younger, Office of Program Management, (202) 366-2053, for general information about the OTRB Program.

SUPPLEMENTARY INFORMATION: A total of $6.9 million was made available for the program in FY 2004: $5.2 million for intercity fixed-route providers and $1.7 million for all other providers, such as commuter, charter, and tour operators. A total of 96 applicants requested $23.9 million: $11.2 million was requested by intercity fixed-route providers, and $12.7 million was requested by all other providers. Project selections were made on a discretionary basis, based on each applicant's responsiveness to statutory project selection criteria, fleet size, and level of funding received in previous years. Because of the high demand for the funds available, most applicants received less funding than they requested, but almost all qualified applicants received some funding. The selected projects will provide funding for the incremental cost of adding lifts to 79 new vehicles, retrofitting 110 vehicles, and $172,839 for training. Each of the following 74 awardees, as well as the 22 applicants who were not selected for funding, will receive a letter that explains how funding decisions were made.

Award Amount
Operator | City/state | Intercity fixed-route | Other | Total
Region I
Bonanza Bus Lines | Providence, RI | $104,784 |  | $104,784
Bristol Tours, Inc. | Bristol, VT |  | $30,659 | 30,659
Cavalier Coach Corp. | Boston, MA |  | 36,000 | 36,000
Concord Coach Lines, Inc. | Concord, NH | 49,800 |  | 49,800
Dartmouth Transportation Co. Inc | Concord, NH |  | 22,400 | 22,400
Lamoille Valley Transportation | Morrisville, VT |  | 25,192 | 25,192
Peter Pan Bus Lines | Springfield, MA | 264,650 |  | 264,650
Premier Coach Company, Inc | Colchester, VT |  | 30,240 | 30,240
Vermont Transit Co. | Burlington, VT | 132,606 |  | 132,606
VIP Tour and Charter Bus Co | Portland, ME |  | 40,492 | 40,492
Region II
Adirondack Trailways | Hurley, NY | 290,500 |  | 290,500
Allen AME Transportation Corp | Jamaica, NY |  | 71,000 | 71,000
Blue Bird Coach Lines | N. Tonawanda, NY |  | 45,000 | 45,000
Brown Coach Inc. | Amsterdam, NY |  | 35,429 | 35,429
Coach USA/Cape Transit | Pleasantville, NJ |  | 39,150 | 39,150
Hampton Jitney, Inc. | Southampton, NY | 31,827 |  | 31,827
Paradise Travel, Inc. | W. Hempstead, NY |  | 40,000 | 40,000
Private One of New York, LLC | Brooklyn, NY |  | 22,500 | 22,500
Shortline (Hudson Transit) | Mahwah, NJ | 150,039 |  | 150,039
Stout's Charter Service, Inc. | Trenton, NJ |  | 25,650 | 25,650
Suburban Trails, Inc. | New Brunswick, NJ |  | 22,500 | 22,500
Syracuse and Oswego Motor Lines | E. Syracuse, NY |  | 40,500 | 40,500
Trans Express, Inc. | Brooklyn, NY |  | 59,420 | 59,420
Trolley Tours, Inc. | Forked River, NJ |  | 22,950 | 22,950
Utica Rome Bus Company | Clinton, NY |  | 40,500 | 40,500
Region III
Abbott Bus Lines, Inc. | Roanoke, VA |  | 39,600 | 39,600
Bieber Tourways | Kutztown, PA | 113,000 |  | 113,000
Butler Motor Transit | Butler, PA |  | 45,000 | 45,000
Elegance Bus Tours, Inc. | Suitland, MD |  | 27,000 | 27,000
Eyre Bus Service, Inc. | Glenelg, MD |  | 26,105 | 26,105
Lenzer Tour and Travel | Sewickley, PA |  | 45,000 | 45,000
Martz Trailways | Wilkes-Barre, PA | 148,000 |  | 148,000
Morgan & Sons Week-End Tours | Greensboro, NC |  | 33,300 | 33,300
Scenic America, Inc. | Broad Run, VA |  | 39,600 | 39,600
Sun Coach Lines, LLC. | McKeesport, PA |  | 28,000 | 28,000
Trans-Bridge Lines | Bethlehem, PA | 90,000 |  | 90,000
Wilson's Luxury Tours, Inc. | District Hgts., MD |  | 39,600 | 39,600
Region IV
Americoach Tours | Memphis, TN |  | 38,250 | 38,250
Angelic Tours and Shuttles | Fayetteville, NC |  | 40,000 | 40,000
Carolina Trailways | Raleigh, NC | 198,909 |  | 198,909
Lancaster Tours Inc. | Lancaster, SC |  | 40,000 | 40,000
Region V
Colonial Coach Lines | Mt. Prospect, IL |  | 27,000 | 27,000
Croswell Bus Lines Inc. | Williamsburg, OH |  | 24,416 | 24,416
Jefferson Lines | Minneapolis, MN |  | 50,400 | 50,400
Lakefront Lines Inc. | Brook Park, OH | 27,900 |  | 27,900
Lamers Bus Lines Inc. | Green Bay, WI | 47,000 |  | 47,000
Pioneer Coach Lines, Inc. | Chicago, IL |  | 27,000 | 27,000
Ready Bus Line | La Crescent, MN |  | 25,200 | 25,200
Riteway Bus Service, Inc. | Richfield, WI |  | 29,250 | 29,250
Robinson Coach | Evanston, IL |  | 28,875 | 28,875
Seniors Unlimited Inc. | Pontiac, MI |  | 26,550 | 26,550
Van Galder Bus Company | Janesville, WI | 95,000 |  | 95,000
Wisconsin Coach | Waukesha, WI | 74,250 |  | 74,250
Region VI
Central Texas Trails Inc. | Waco, TX |  | 12,600 | 12,600
El Expresso | Houston, TX | 78,000 |  | 78,000
Franklin Motorcoach Charters | Sapulpa, OK |  | 39,600 | 39,600
Greyhound | Dallas, TX | 2,609,512 |  | 2,609,512
Gulf Coast Transit | Houston, TX |  | 36,000 | 36,000
Hotard Motor Coach Services | New Orleans, LA |  | 36,000 | 36,000
Kerrville Bus Co. | San Antonio, TX | 87,800 |  | 87,800
San Antonio City Tours | San Antonio, TX |  | 36,000 | 36,000
Si Texas Tours | Bandera, TX |  | 44,345 | 44,345
TNM&O | Lubbock, TX | 99,453 |  | 99,453
Valley Transit | Harlingen, TX | 99,453 |  | 99,453
Region VII
Burlington Trailways | W. Burlington, IA | 89,283 |  | 89,283
Region VIII
No Applications |  |  |  |
Region IX
All Aboard America | Mesa, AZ |  | 20,715 | 20,715
Antelope Valley Bus | Long Beach, CA | 180,540 |  | 180,540
Arrow Stage Lines | Phoenix, AZ |  | 35,955 | 35,955
K-T Contract Services | Las Vegas, NV | 71,910 |  | 71,910
Pacific Coast Sightseeing Tours | Anaheim, CA |  | 39,780 | 39,780
Ryan's Express | Las Vegas, NV |  | 23,337 | 23,337
Showtime Tours | Las Vegas, NV |  | 35,910 | 35,910
Region X
Northwestern Stage Lines | Spokane, WA | 40,050 |  | 40,050
Wickkiser International Co. | Ferndale, WA | 44,759 |  | 44,759
Total |  | 5,219,025 | 1,689,970 | 6,908,995

Eligible project costs may be incurred by awardees prior to final grant approval. The incremental capital cost for adding wheelchair lift equipment to any new vehicles delivered on or after June 9, 1998, the effective date of TEA-21, is eligible for funding under the OTRB Accessibility Program.

Applicants selected for funding may be contacted by FTA regional offices if additional information is needed before grants are made. The grant applications will be sent to the U.S. Department of Labor (DOL) for certification under labor protection requirements pursuant to 49 U.S.C. 5333(b). After referring applications to affected employees represented by a labor organization, DOL will issue a certification to FTA. Terms and conditions of the certification will be incorporated in the FTA grant agreement under the new guidelines replacing those in 29 CFR part 215. Please see Amendment to Section 5333(b), Guidelines To Carry Out New Programs Authorized by the Transportation Equity Act for the 21st Century (TEA-21); Final Rule (64 FR 40990, July 28, 1999).

Issued on: November 9, 2004.
Jennifer L. Dorn,
Administrator.

[FR Doc. 04-25419 Filed 11-15-04; 8:45 am]

BILLING CODE 4910-57-P